DEPARTMENT OF TRANSPORTATION

Research and Special Programs Administration (RSPA)

[Docket No. RSPA-98-4470]

Pipeline Safety: Meetings of the Pipeline Safety Advisory Committees

AGENCY: Office of Pipeline Safety, Research and Special Programs Administration, DOT.

ACTION: Notice; Meetings of the Technical Pipeline Safety Standards Committee and the Technical Hazardous Liquid Pipeline Safety Standards Committee.

SUMMARY: Meetings of the Technical Pipeline Safety Standards Committee (TPSSC) and the Technical Hazardous Liquid Pipeline Safety Standards Committee (THLPSSC) will be held from Tuesday, February 3 to Thursday, February 5, 2004, at the Washington-Dulles Airport Marriott Hotel, Dulles, Virginia. The Office of Pipeline Safety (OPS) will provide briefings on pending rulemakings and regulatory initiatives. The advisory committees will discuss various proposed rulemakings and associated risk assessments.

ADDRESSES: Members of the public may attend the meetings at the Washington-Dulles Airport Marriott Hotel, 45020 Aviation Drive, Dulles, Virginia. The exact location and room number for this meeting will be posted on the OPS Web page approximately 15 days before the meeting date at http://ops.dot.gov.

An opportunity will be provided for the public to make short statements on the topics under discussion. Anyone wishing to make an oral statement should notify Jean Milam, (202) 493-0967, not later than January 16, 2004, on the topic of the statement and the length of the presentation. The presiding officer at each meeting may deny any request to present an oral statement and may limit the time of any presentation.

You may submit written comments by mail or deliver to the Dockets Facility, U.S. Department of Transportation, Room PL-401, 400 Seventh Street, SW., Washington, DC 20590-0001. It is open from 10 a.m. to 5 p.m., Monday through Friday, except Federal holidays. You may also submit written comments to the docket electronically. To do so, log onto the following Internet Web address: http://dms.dot.gov. Click on “Help & Information” for instructions on how to file a document electronically. All written comments should reference docket number RSPA-98-4470. Anyone who would like confirmation of mailed comments must include a self-addressed stamped postcard.

Anyone is able to search the electronic form of all comments received in any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Information on Services for Individuals with Disabilities

For information on facilities or services for individuals with disabilities or to request special assistance at the meeting, contact Jean Milam at (202) 493-0967.

FOR FURTHER INFORMATION CONTACT: Cheryl Whetsel, OPS, (202) 366-4431 or Richard Huriaux, OPS, (202) 366-4565, regarding the subject matter of this notice.

SUPPLEMENTARY INFORMATION: The TPSSC and THLPSSC are statutorily mandated advisory committees that advise the Research and Special Programs Administration's (RSPA) Office of Pipeline Safety (OPS) on proposed safety standards for gas and hazardous liquid pipelines. These advisory committees are constituted in accordance with section 10(a)(2) of the Federal Advisory Committee Act (Pub. L. 92-463, 5 U.S.C. App. 1). The committees consist of 15 members—five each representing government, industry, and the public. The TPSSC and THLPSSC are tasked with determining reasonableness, cost-effectiveness, and practicability of proposed pipeline regulations.

Federal law requires that OPS submit cost-benefit analyses and risk assessment information on proposed safety standards to the advisory committees. The TPSSC and/or THLPSSC evaluate the merit of the data and methods used within the analyses, and when appropriate, provide recommendations relating to the cost-benefit analyses.

On Tuesday, February 3, 2004, from 9 a.m. to 12:30 p.m. e.s.t., the Technical Hazardous Liquid Pipeline Safety Standards Committee (THLPSSC) will meet. The preliminary agenda includes briefings on the following topics:

1. Hazardous Liquid Pipeline Operator Annual Report

2. Hazardous Liquid Integrity Management Program Update

3. Definition of Hazardous Liquid Gathering Lines

4. Permitting Project and Best Management Practices

5. Controller Project

6. Fatigue

On Tuesday, February 3, 2004, from 1:30 p.m. to 4 p.m. e.s.t., the THLPSSC and the Technical Pipeline Safety Standards Committee will meet in joint session and continue on Wednesday, February 4, 2004, from 9 a.m. to 4 p.m. e.s.t. OPS will provide the Committees with briefings on the following topics:

1. Periodic Underwater Inspections

2. Annual Update of Standards Incorporated by Reference

3. Pipeline Industry Implementation of Effective Public Awareness (API 1162)

4. Amendments to Operator Qualification.

5. 2005 Budget Proposal and Departmental Reorganization

6. Pipeline Research and Development Program

7. Common Ground Alliance Update

8. Inspector General and General Accounting Office Reports

9. National Pipeline Mapping System

10. National Pipeline Security Preparedness

11. Safety Orders and Penalty Structure

12. Fire Marshals Project

13. Council of Energy Resource Tribes (CERT)

14. Energy Impacts

On Thursday, February 5, 2004, from 9 a.m. to 1 p.m. e.s.t. the TPSSC will meet. The TPSSC will vote on the Cost Benefit for the Notice of Proposed Rulemaking on the Passage of Internal Inspection Devices. The TPSSC will also be provided briefings on the following topics:

1. Pipeline Integrity Management for Gas Transmission Pipelines in High Consequence Areas (Final Rule)

2. Pipeline Direct Assessment

3. Gas Gathering Line Definition

4. Gas Transmission Definition

5. Excess Flow Valves

6. Waivers for Class Location

7. Permit Project and Best Management Practices

8. Integrity Management Tracking System

9. Controller Project

10. Fatigue

Authority: 49 U.S.C. 60102, 60115.

Issued in Washington, DC on December 24, 2003.
Richard D. Huriaux,
Manager, Regulations, Office of Pipeline Safety.

[FR Doc. 03-32203 Filed 12-30-03; 8:45 am]

BILLING CODE 4910-60-P